DEPARTMENT OF THE INTERIOR

Fish and Wildlife Service

Draft Comprehensive Conservation Plan and Environmental Assessment for Missisquoi National Wildlife Refuge

AGENCY: Fish and Wildlife Service, Department of the Interior.

ACTION: Notice of availability.

SUMMARY: The U.S. Fish and Wildlife Service (Service) announces the availability of the Missisquoi National Wildlife Refuge (NWR) Draft Comprehensive Conservation Plan (CCP) and Environmental Assessment (EA). It describes how we intend to manage Missisquoi NWR during the next 15 years. We prepared this Draft CCP/EA in conformance with the National Environmental Policy Act (NEPA) and the National Wildlife Refuge System Administration Act, as amended.

DATES: The Draft CCP/EA will be available for public review and comment for a 30-day period starting with the publication of this notice.

ADDRESSES: You may obtain copies of the draft CCP/EA on compact diskette or in print by writing to Carl Melberg, U.S. Fish and Wildlife Service, Northeast Regional Office, 300 Westgate Center Drive, Hadley, Massachusetts 01035-9589, or by electronic mail at northeastplanning@fws.gov, noting in the subject line “Missisquoi National Wildlife Refuge.” You may also view the draft on the Web at http://library.fws.gov/ccps.htm. During the 30-day comment period, we plan to host public meetings in the local area. We will post the details of each meeting at least 2 weeks in advance to our project mailing list in local papers, at the refuge and at our Web site, http://www.fws.gov/northeast/missisquoirefuge/.

FOR FURTHER INFORMATION CONTACT: Carl Melberg, 413-253-8521.

SUPPLEMENTARY INFORMATION: The National Wildlife Refuge System Administration Act of 1966, as amended by the National Wildlife Refuge System Improvement Act of 1997, requires the Service to develop a CCP for each refuge. The purpose of developing a CCP is to provide refuge managers with a 15-year strategy for achieving refuge purposes and contributing to the mission of the National Wildlife Refuge System (NWRS), in conformance with the sound principles of fish and wildlife science, natural resources conservation, legal mandates, and Service policies. In addition to outlining broad management direction on conserving wildlife and habitats, CCPs identify wildlife-dependent recreational opportunities available to the public, including opportunities for hunting, fishing, wildlife observation and photography, and environmental interpretation and education. The Service will review and update each CCP at least once every 15 years, in accordance with the National Wildlife Refuge System Improvement Act of 1997 and the National Environmental Policy Act of 1969 (NEPA).

This Draft CCP/EA identifies goals, long-range objectives, and strategies for achieving the purposes for which this refuge was established. The document poses two management alternatives:

Alternative A (Current Management): This alternative is the “No Action” alternative required by NEPA. Alternative A defines our current management activities, including those planned, funded, or underway, and serves as the baseline for comparing Alternative B, our preferred alternative. It would maintain our present levels of approved refuge staffing and the biological and visitor programs now in place. The refuge would continue to pursue acquisition of the eight parcels composing 253 acres that remain within the original approved acquisition boundary of the refuge, and the occasional parcel that becomes available adjacent to the refuge.

Alternative B (the Service-preferred alternative): This alternative represents the combination of actions that we believe will most effectively achieve the purposes and goals of the refuge and address the major issues. It builds on the programs identified under Alternative A. Funding and staffing would need to increase to adequately support the program expansions we propose. Key strategies in this alternative include greater inventory, monitoring, and management of the Missisquoi River Delta wetlands to maintain their ecological integrity and diversity of plants and animals on the refuge; increased management of high-quality grasslands, shrublands, and other early successional habitats for a range of wildlife species of conservation concern; enhanced, expanded programs of outreach, and environmental education and interpretation; expanded wildlife-dependent recreational opportunities, including hunting, fishing, wildlife observation and photography; greater inventory, protection, and interpretation of the rich cultural history of the Missisquoi River Delta and enhanced partnerships with the local Abenaki Tribe; a new $1.00 Refuge Activity Fee that will raise additional funds for trail maintenance, informational kiosks, educational programs, and other actions to benefit all visitors to the refuge; a critical new law enforcement position to enhance staff and visitor safety; other new critical positions, including a park ranger, maintenance worker, and biological technician. Alternative B also proposes that, within 1 year of CCP completion, upon Director's approval, we will conduct a study with our partners to determine if undeveloped lands within 5 miles of the refuge warrant additional Service protection to conserve Federal trust resources and aid in fulfilling the mission of the NWRS and the purposes of the refuge.

A wilderness review of the refuge was completed in 1974. This review, based on refuge management needs and public input at the time, proposed that Shad Island be designated wilderness under the Wilderness Act of 1964. As part of the CCP process, we completed a wilderness review, evaluating all refuge land for its current wilderness potential. The review concluded no lands at the refuge are suitable for inclusion into the National Wilderness Preservation System, and we propose to withdraw Shad Island as a proposed wilderness to the U.S. Congress.

After the 30-day review and comment period ends, we will analyze, address, and consider all comments received and prepare a final CCP. Availability of the final CCP will be published in the Federal Register. All comments, including names and addresses, become part of the official public record. Requests for the public record of this plan will be handled in accordance with the Freedom of Information Act, the Council on Environmental Quality's NEPA regulations, and other Service and Departmental policies and procedures.

Dated: August 2, 2006.
Marvin E. Moriarty,
Regional Director, U.S. Fish and Wildlife Service, Hadley, MA 01035-9589.

This document was received at the Office of the Federal Register on March 13, 2007.

[FR Doc. E7-4854 Filed 3-15-07; 8:45 am]

BILLING CODE 4310-55-P